DEPARTMENT OF THE TREASURY

Customs Service

Notice of Cancellation of Customs Broker Permit

AGENCY: U.S. Customs Service, Department of the Treasury.

ACTION: General notice.

SUMMARY: Pursuant to section 641 of the Tariff Act of 1930, as amended, (19 U.S.C. 1641) and the Customs Regulations (19 CFR 111.51), the following Customs broker local permits are canceled without prejudice.

Name | Permit No. | Issuing port
Jonathan T. Cottingham | 30-02-ACP | Seattle.
ABX Logistics (USA), Inc | 35-00-060 | Minneapolis.
All Nations Forwarding Import Co., Inc | 271 | Miami.

Dated: November 21, 2002.
Jayson P. Ahern,
Assistant Commissioner, Office of Field Operations.

[FR Doc. 02-30361 Filed 11-29-02; 8:45 am]

BILLING CODE 4820-02-P